FEDERAL COMMUNICATIONS COMMISSION

Sunshine Act Meeting

May 8, 2001.

Deletion of Agenda Item From May 10th Open Meeting

The following item has been deleted from the list of agenda items scheduled for consideration at the May 10, 2001, Open Meeting and previously listed in the Commission's Notice of May 3, 2001.

Item No: 2.

Bureau: Mass Media.

Subject:

Title: Cross-Ownership of Broadcast Stations and Newspapers; and Newspaper/Radio Cross-Ownership Waiver Policy (MM Docket No. 96-197).

Summary: The Commission will consider a Notice of Proposed Rule Making proposing to modify, eliminate, or retain its rule that prohibits common ownership of broadcast stations and newspapers within the same geographic area.

Federal Communications Commission.
Magalie Roman Salas,
Secretary.

[FR Doc. 01-12157 Filed 5-10-01; 9:58 am]

BILLING CODE 6712-01-M